DEPARTMENT OF THE INTERIOR

National Park Service

36 CFR Part 13

RIN 1024-AD38

National Park System Units in Alaska

AGENCY: National Park Service, Interior.

ACTION: Final rule.

SUMMARY: This rule revises the special regulations for the NPS-administered areas in Alaska to update provisions governing subsistence use of timber, river management, ORV use, fishing, and camping. The revision also updates definitions, prohibits pets in certain areas, and establishes wildlife viewing distances in several park areas.

DATES: This rule is effective on February 19, 2008.

FOR FURTHER INFORMATION CONTACT: National Park Service, Victor Knox, Deputy Regional Director, Alaska Regional Office, 240 West 5th Ave., Anchorage, AK 99501. Telephone: (907) 644-3501. E-mail: akro_regulations@nps.gov. Fax: (907) 644-3816.

SUPPLEMENTARY INFORMATION:

Background

On December 27, 2006, the NPS published in the Federal Register proposed revised special regulations for the NPS-administered areas in Alaska. Each park area in Alaska has a compendium consisting of the compiled designations, closures, openings, permit requirements, and other provisions established by the Superintendent under the discretionary authority granted in 36 CFR 1.5 and elsewhere in regulations. It is the policy of the NPS to review these provisions on a regular basis for possible addition to the general and special park regulations in part 13. The provisions in this final rule are additions or changes to individual park regulations in part 13, subparts H-W. Where these provisions have applicability to several or all Alaska park areas, they generally are included as additions to part 13, subparts A-F.

Most of the following regulations have resulted from the current review of compendium provisions. Additionally, several changes to the part 13 regulations unrelated to the compendium review are included as indicated. We are consolidating all routine changes in a single rulemaking document for administrative efficiency and the convenience of the public. Comments received and the corresponding NPS response are summarized below. Modifications to the proposed rule are listed under Changes to the Final Rule. As used within this document, the terms “we,” “our,” and “us” refer to the National Park Service.

Summary of Comments

The proposed rule was published for public comment on December 27, 2006 (71 FR 77657), with the comment period lasting until February 26, 2007. The National Park Service received 12 timely written responses. All of the responses were either separate letters or e-mail messages. Of the 12 written responses, one was from the State of Alaska, five were from non-governmental organizations (including one consolidated response from seven signatory groups), and six were submitted by individuals. Many proposed changes either received supporting comments or no comments. These sections are being adopted as proposed unless noted otherwise below. The proposed sections that did receive substantive comments are discussed below.

General Comments

1. The NPS received two comments critical of the public notice provided for the proposed rule. One of the two also objected to the timing of the Federal Register notice during the holiday season, and the other said the 60-day comment period was too short.

NPS Response: One of the commenters appears to have confused this rulemaking with another NPS initiative to prepare a users' guide for inholder access. This rulemaking does not change the current rules applicable to inholder access. Concerning the timing of public notice and the length of the comment period, publication in the Federal Register with a 60-day comment period is standard. In situations where the standard comment period appears insufficient, it can be extended. However, the number and range of comments received for this rulemaking indicates that the notice and comment period resulted in sufficient public involvement.

Section 13.1 Definitions

2. The NPS received five comments opposing the removal of the definition for the term “adequate and feasible” from Part 13.

NPS Response: The commenters opposing the removal of this phrase mistakenly believe that inclusion of the term in Part 13 has a substantive effect regarding access to inholdings in NPS areas. The term “adequate and feasible” is no longer used in the NPS Part 13 regulations and, consequently, does not have any effect on managing access to inholdings. The Department of the Interior moved the regulations for access to inholdings from the NPS regulations to Departmental multi-agency regulations at 43 CFR 36.10 in 1986. A slightly revised definition for “adequate and feasible” was adopted by the Department at that time as 43 CFR 36.10(a)(1). It is this definition as used in the Departmental regulations that applies to access to inholdings in Alaska park areas. The NPS definition was inadvertently left in Part 13 in 1986 when the other regulations were removed. The current proposal to remove it from Part 13 is a nonsubstantive administrative correction of this omission.

Specific Comments

Section 13.485 Subsistence Use of Timber and Plant Material

3. The NPS received six comments concerning this section. One commenter asserted that use of timber for a house should be a one-time-only authorization. Two commenters, an individual and a corporation, supported the change to allow cutting dead timber for house logs. The individual's support was qualified by a need for NPS management oversight of harvest levels. Three commenters (a single comment plus a joint comment by two individuals) felt that deletion of the word “live” in section (a) for cutting timber will create confusion concerning the section (b) allowance for gathering dead timber for firewood without a permit. Also, the joint comment suggested that the word change in section (b) suggests a possible intent to charge a fee or possibly to eliminate subsistence use of timber. As an alternative to deleting “live” in section (a), the joint comment proposed deleting “for firewood” in section (b) to achieve the same result. Finally, the joint comment urged retention of the definition of “temporarily” and suggested that the proposed change in section (c) makes the section less clear and may be a pretext to permanent closure of some areas to subsistence use of timber. A residents' group commented that the proposed change in section (a) to read, “Unless otherwise provided”, will cause section (b) to supersede section (a), while the proposed deletion of the word “live” in section (a) suggests that section (a) is intended to have some application to section (b) gathering of firewood. The group also stated that the proposed changes will cause confusion about the relationship between the general timber gathering provisions of section 13.35 and the proposed changes for subsistence in section 13.485. Finally, the residents' group opposed the broader management discretion proposed for temporary closures in section (c).

NPS Response: The NPS does not agree that the cutting of timber for house logs should be limited to one-time use. Circumstances could arise where additional house logs would be needed. The current NPS timber cutting and gathering regulations and the proposed changes are focused on allowing customary and traditional use with an appropriate level of oversight to protect park unit purposes and values. NPS has no intent to eliminate or charge a fee for subsistence use of timber.

We appreciate the concern regarding the distinction between section (a) timber cutting and section (b) timber gathering. While the suggestion to delete the firewood limitation in section (b) rather than “live” in section (a) would achieve some of the same results, we believe the value of maintaining the current distinction between cutting and gathering is a more important consideration.

The comment opposing the deletion of the definition of “temporarily” in subsection (c) brought to light an unintended change to this section. The intended change was only to the introductory text of paragraph (c), not to paragraph (c)(1). The definition of “temporarily” was not intended to be proposed for change and will be retained.

The NPS does not intend to permanently close areas to subsistence use of timber and plant materials as suggested by several comments. The expanded description of circumstances in which temporary closures might be considered is intended to clarify the parameters of the management options in section (c). Modifying subsection (c) as proposed will allow managers additional flexibility to protect park unit resources while allowing subsistence uses of timber and plant material.

Finally, we note that the proposed change in the introductory sentence of section (a), “Unless otherwise provided for in this section”, was intended as an administrative clarification that would not change the meaning of the sentence. It is now apparent, as suggested by several comments, that the proposal would change the meaning of the sentence. For that reason, this change will not be adopted and the original text, “Notwithstanding any other provision of this part”, will remain unchanged.

Sections 13.1008, 13.1118, 13.1604, and 13.1912 Solid Waste Disposal

4. The NPS received eight comments on this proposed change, seven of which were supportive. One commenter opposed allowing solid waste disposal sites to be located less than a mile from visitor campgrounds, centers, or similar sites. Two commenters requested the NPS clarify that landowners remain free to dispose of solid waste on private lands within the park. The State of Alaska suggested the exceptions be extended to all park units in Alaska.

NPS Response: In many areas in Alaska, it would not be practical or possible to locate sites more than one mile from certain visitor facilities for environmental, economic, or other reasons. Therefore, the NPS is making a limited exception to this provision so long as it would not degrade park resources. Regarding disposal of solid waste on private property, landowners remain free to dispose of solid waste on their own private property within park boundaries in compliance with other State and Federal regulations. The NPS proposed this provision in part to provide an alternative to landowners disposing of waste on their property and combat unlawful dumping on park lands. The regulation was not extended to all park areas in Alaska because it is not anticipated to be necessary in the foreseeable future.

Sections 13.920, 13.1106, and 13.1206 Wildlife Distance Conditions

5. The NPS received four comments on these provisions, of which two were critical. One comment called the conditions difficult to assess and enforce. The other comment recommended a 250-yard limit requirement rather than 50 yards.

NPS Response: The NPS appreciates the comment regarding assessing and enforcing the distance requirements; however, these distance conditions are necessary to mitigate the impacts associated with human activity in close proximity to wildlife while accommodating park visitors in these park areas. With respect to the proposal on engaging in photography within 50 yards of a bear in Katmai, Aniakchak, and Alagnak, the NPS has determined that additional time is needed to consider this proposal and it has therefore been removed from this final rule.

Sections 13.1106 and 13.1310 Pets

6. The NPS received one comment on the pet restrictions in Kenai Fjords and Glacier Bay. While generally supportive, the commenter recommended more areas for closure and, with respect to Kenai Fjords, that the closure be extended to year round.

NPS Response: While the NPS appreciates the support for these provisions, the NPS does not believe further closures are necessary at this point to protect park resources.

Section 13.1109 Off-Road Vehicle Use in Glacier Bay National Preserve

7. The NPS received one comment in support of the proposed regulation.

NPS Response: The NPS appreciates the support. Significant expansion of the trail network and resource impacts have required that ORV use in Glacier Bay National Preserve be limited to designated locations. This restriction complies with the criteria in ANILCA section 205 and implementing regulations at 36 CFR 13.40(c). This regulation applies to individuals using ORVs for commercial fishing as well as for subsistence, recreation, and other purposes.

Section 13.1210 Firearms

8. The NPS received one comment in support of this provision and further stating that firearms should be allowed in all Alaskan parks for personal protection from big game.

NPS Response: The NPS appreciates the support for this provision. Expanding the authorization, however, to carry loaded firearms in the remaining Alaska park areas where it is prohibited is not currently warranted.

Section 13.1304 Harding Icefield Trail

9. The NPS received one comment from the State of Alaska on this provision. The State questioned whether NPS really intended to make the closure year round, whereas the current compendium closure is only applicable in the summer.

NPS Response: The NPS appreciates the comment. This oversight has been corrected.

Section 13.1324 Bicycles

10. The NPS received one comment on bicycle use in Kenai Fjords. One commenter stated that the provision is not necessary because these areas are already closed to bicycle use.

NPS Response: The NPS appreciates the confusion between the applicability of the NPS general regulations and Alaska-specific provisions. For this reason, the NPS is delineating specific areas within the Exit Glacier Developed Area where bicycles are allowed and where they are prohibited.

Section 13.1326 Snowmachines

11. The NPS received one comment on the proposed snowmachine regulation for Kenai Fjords. While the commenter agreed with the end result of the provision, the commenter requested that the NPS clarify that the regulation does not infer that recreational snowmachining is authorized under ANILCA section 1110(a).

NPS Response: We appreciate the confusion between the applicability of the NPS general regulations and NPS regulations specific to Alaska. Nationwide NPS regulations in 36 CFR part 2 prohibit the use of snowmachines except on designated routes and water surfaces that are used by motor vehicles or motorboats during other seasons. The regulations further direct that routes and water surfaces designated for snowmachine use be promulgated as special regulations. In Alaska, snowmachines are also allowed for traditional activities and for travel to and from villages and homesites under ANILCA section 1110(a). This provision does not address whether recreational snowmachining is or is not a traditional activity under section 1110(a) in Kenai Fjords. While recreational use of snowmachines is not a traditional activity in the former Mt. McKinley National Park pursuant to 36 CFR 13.950, this term has not been defined for Kenai Fjords. When other Alaska parks begin the process of identifying traditional activities, the NPS will look to the circumstances specific to each park area. To address public safety concerns and visitor conflicts in the Exit Glacier Developed Area (EGDA), the NPS is delineating specific areas within the EGDA where snowmachines may be operated and where they are prohibited.

Changes to the Final Rule

Based on the preceding comments and responses, the NPS has made the following changes to the proposed rule language:

• Subpart P, 13.1304 Exit Glacier Developed Area. For clarity the NPS is reorganizing § 13.1304. This change will make Subpart P easier to use by introducing new sections and eliminating the levels of subdivision in § 13.1304.

• 13.550, 13.604, and 13.1206 Wildlife Distance Conditions. The NPS has decided to drop the requirement that individuals cease engaging in photography within 50 yards of a bear. The NPS is still considering this provision for future regulation, but needs more time to evaluate it.

• 13.485 Subsistence Use of Timber and Plant Material. The proposed language “Unless otherwise provided” in paragraphs (a) and (c) has been changed back to “Notwithstanding any other provision of this part.” The NPS is also correcting an unintended change to subsection (c)(1). The proposed change was meant to be in the introductory text of paragraph (c) rather than replacing (c)(1).

• 13.1109 Off-Road Vehicle Use in Glacier Bay National Preserve. The proposed regulation referred to this area as the Dry Bay area. Because this is not a defined term, it has been changed to Glacier Bay National Preserve. This change is not considered substantive as it is intended to refer to the same area, but only in a more exact way.

• 13.1308 Harding Icefield Trail. The proposed language has been changed to limit the trailside camping closure from March 1 through November 1, consistent with the 2007 compendium.

• 13.1604 Solid Waste Disposal. Paragraph (c) was changed and paragraph (d) was added to be consistent with section 13.1912 applicable to Wrangell-St. Elias National Park and Preserve.

Compliance With Other Laws

Regulatory Planning and Review (Executive Order 12866)

This document is not a significant rule and has not been reviewed by the Office of Management and Budget under Executive Order 12866.

(1) This rule will not have an effect of $100 million or more on the economy. It will not adversely affect in a material way the economy, productivity, competition, jobs, the environment, public health or safety, or State, local, or tribal governments or communities. A qualitative cost/benefit analysis was conducted to examine specific costs and benefits associated with the proposed rule. That analysis concludes that positive net benefits would be generated by each component of the proposed regulatory action, and hence by the regulatory action overall. Further, governmental processes in NPS-administered areas in Alaska would be improved. Therefore, it is anticipated that economic efficiency would be improved by this proposed regulatory action.

(2) This rule will not create a serious inconsistency or otherwise interfere with an action taken or planned by another agency. This is an agency-specific rule that will not interfere with other agencies or local government plans, policies, or controls. The proposals included with this rulemaking apply to areas managed by the National Park Service and do not conflict with other federal regulations. Several proposals are specifically intended to improve consistency between State and NPS areas. The review process used to develop the rulemaking proposals included consultation with the State of Alaska to seek views of appropriate officials and to provide consistency with state rules on adjacent lands as well as active participation where NPS is proposing variation from similar state regulations.

(3) This rule does not alter the budgetary effects of entitlements, grants, user fees, or loan programs, or the rights and obligations of their recipients. No grants or other forms of monetary supplements are involved.

(4) This rule does not raise novel legal or policy issues. This rule implements existing legislative enactments, judicial interpretations, and regulatory provisions. It is not a completely new proposal, but rather a continuation of the rulemaking process begun in 1980 to promulgate only those regulations necessary to interpret the law and to provide for the health and safety of the public and the environment. This process is intended to increase participation and cooperation in the evolution of NPS regulations for Alaska.

Regulatory Flexibility Act

The Department of the Interior certifies that this rule will not have a significant economic effect on a substantial number of small entities under the Regulatory Flexibility Act (5 U.S.C. 601, et seq.). The economic effects of this rule are local in nature and positive or negligible in scope. This rule either implements rules unrelated to business activity or makes permanent various temporary and emergency rules under which area businesses have been operating. This rule will have no effect or in some cases a salutary effect by eliminating year to year uncertainty for park visitors.

A qualitative Regulatory Flexibility threshold analysis was conducted to examine potential impacts to small entities. The analysis concludes that, since no significant costs are anticipated for any component of the rule, significant economic impacts would not be imposed on a substantial number of small entities.

Small Business Regulatory Enforcement Fairness Act

This rule is not a major rule under 5 U.S.C. 804(2), the Small Business Regulatory Enforcement Fairness Act. This rule:

a. Does not have an annual effect on the economy of $100 million or more. Expenses related to compliance with various provisions of this proposed rule are slight. No new user fees or charges are proposed. Any incidental costs from this rule would be small and generally would not be additional to those already associated with visiting park areas.

b. Will not cause a major increase in costs or prices for consumers, individual industries, federal, state, or local government agencies, or geographic regions. The provisions of this rule will generally continue existing rules and use patterns for the park areas in Alaska.

c. Does not have significant adverse effects on competition, employment, investment, productivity, innovation, or the ability of U.S.-based enterprises to compete with foreign-based enterprises. The various provisions of this rule do not apply differently to U.S.-based enterprises and foreign-based enterprises.

Unfunded Mandates Reform Act

In accordance with the Unfunded Mandates Reform Act (2 U.S.C. 1501, et seq.):

a. This rule will not “significantly or uniquely” affect small governments. A Small Government Agency Plan is not required. This rule is an agency-specific rule and imposes no other requirements on small governments. Several of the provisions are based on State of Alaska statutes. This consistency between the State of Alaska and the National Park Service is a benefit to visitors.

b. This rule will not produce a Federal mandate of $100 million or greater in any year, i.e., it is not a “significant regulatory action” under the Unfunded Mandates Reform Act.

Takings (Executive Order 12630)

In accordance with Executive Order 12630, the rule does not have significant takings implications. A takings implications assessment is not required because no taking of property will occur as a result of this final rule.

Federalism (Executive Order 13132)

In accordance with Executive Order 13132, the rule does not have sufficient federalism implications to warrant the preparation of a Federalism Assessment. The rule is limited in effect to federal lands and waters administered by the NPS and does not have a substantial direct effect on state and local government in Alaska. The rule was initiated in part at the request of the State of Alaska and was developed in close consultation with the State of Alaska and, as such, promotes the principles of federalism.

Civil Justice Reform (Executive Order 12988)

In accordance with Executive Order 12988, the Office of the Solicitor has determined that this rule does not unduly burden the judicial system and meets the requirements of sections 3(a) and 3(b)(2) of the Order.

Paperwork Reduction Act

This regulation does not require an information collection under the Paperwork Reduction Act.

National Environmental Policy Act

We have analyzed this rule in accordance with the criteria of the National Environmental Policy Act and 516 DM. This rule does not constitute a major Federal action significantly affecting the quality of the human environment. The rule has generally been determined to be categorically excluded from further NEPA analysis in accordance with Departmental Guidelines in 516 DM 6 (49 FR 21438), and NPS procedures in Reference Manual-12.3.4.A(8), and, other than as noted below, there are no applicable exceptions to categorical exclusions (516 DM 2, Appendix 2; RM-12.3.5). A categorical exclusion does not apply to the special regulation (§ 13.1109) designating off-road vehicle routes at Glacier Bay National Preserve, for which an environmental assessment has been prepared. The categorical exclusion and environmental assessment, are available at the Alaska Regional Office, 240 West 5th Avenue, Anchorage, Alaska, 99501, 907-644-3533 or can be viewed at http://parkplanning.nps.gov/projectHome.cfm?parkId=12&projectId=15909.

Government-to-Government Relationship With Tribes

In accordance with Executive Order 13175 “Consultation and Coordination with Indian Tribal Governments” (65 FR 67249); the President's memorandum of April 29, 1994, “Government-to-Government Relations with Native American Tribal Governments” (59 FR 22951); the Department of the Interior-Alaska Policy on Government-to-Government Relations with Alaska Native Tribes dated January 18, 2001; part 512 of the Departmental Manual, Chapter 2 “Departmental Responsibilities for Indian Trust Resources”; and various park consultation agreements with tribal governments, the potential effects on federally-recognized Indian tribes have been evaluated, and it has been determined that there are no potential effects.

While the consultation agreements noted above have not resulted in findings of potential effects, review of this rule has been facilitated by the relationships established through government-to-government consultation.

Drafting Information: The principal contributors to this rule are: Jim Ireland, Kenai Fjords National Park; Vic Knox, Jay Liggett, Chuck Passek, Jane Hendrick, Andee Sears and Paul Hunter, Alaska Regional Office; and Jerry Case, Regulations Program Manager, NPS, Washington, DC.

List of Subjects in 36 CFR Part 13

Alaska, National Parks, Reporting and recordkeeping requirements.

In consideration of the foregoing, 36 CFR part 13 is amended as set forth below:

PART 13—NATIONAL PARK SYSTEM UNITS IN ALASKA

1. The authority citation for part 13 is revised to read as follows:

Authority: 16 U.S.C. 1, 3, 462(k), 3101, et seq.; Subpart N also issued under 16 U.S.C. 1a-2(h), 20, 1361, 1531, 3197; Pub. L. 105-277, 112 Stat. 2681-259, October 21, 1998; Pub. L. 106-31, 113 Stat. 72, May 21, 1999; Sec. 13.1204 also issued under Sec. 1035, Pub. L. 104-333, 110 Stat. 4240.

§ 13.1 [Amended]

2. Amend § 13.1 as follows:

a. Remove the definition of “adequate and feasible access”; and

b. In the definition of “National Preserve,” remove the term “Alagnak National Wild and Scenic River” and add in its place the term “Alagnak Wild River.”

§ 13.440 [Amended]

3. Amend § 13.440 by removing paragraph (b) and redesignate paragraph (c) as (b).

4. Amend § 13.485 by revising paragraph (a) and the introductory text of paragraph (c), to read as follows:

§ 13.485 Subsistence use of timber and plant material

(a) Notwithstanding any other provision of this part, the non-commercial cutting of standing timber by local rural residents for appropriate subsistence uses, such as firewood or house logs, may be permitted in park areas where subsistence uses are allowed as follows:

(1) For standing timber of diameter greater than three inches at ground height, the Superintendent may permit cutting in accordance with the specifications of a permit if such cutting is determined to be compatible with the purposes for which the park area was established; and

(2) For standing timber of diameter less than three inches at ground height, cutting is authorized unless restricted by the Superintendent.

* * * * *

(c) Notwithstanding any other provision of this part, the Superintendent, after notice and public hearing in the affected vicinity and other locations as appropriate, may temporarily close all or any portion of a park area to subsistence uses of a particular plant population. The Superintendent may make a closure under this paragraph only if necessary for reasons of public safety, administration, resource protection, protection of historic or scientific values, conservation of endangered or threatened species, or the purposes for which the park area was established, or to ensure the continued viability of the plant population. For purposes of this section, the term “temporarily” shall mean only so long as reasonably necessary to achieve the purposes of the closure.

* * * * *

5. Add a new subpart H (consisting of § 13.550) to read as follows:

Subpart H—Special Regulations—Alagnak Wild River

§ 13.550 Wildlife distance conditions

(a) Approaching a bear or any large mammal within 50 yards is prohibited.

(b) Continuing to occupy a position within 50 yards of a bear that is using a concentrated food source, including, but not limited to, animal carcasses, spawning salmon, and other feeding areas is prohibited.

(c) Continuing to engage in fishing within 50 yards of a bear is prohibited.

(d) The prohibitions in this section do not apply to persons—

(1) Engaged in a legal hunt;

(2) On a designated bear viewing structure;

(3) In compliance with a written protocol approved by the Superintendent; or

(4) Who are otherwise directed by a park employee.

6. Amend § 13.604 by redesignating paragraph (c) as paragraph (d) and adding new paragraph (c) to read as follows:

§ 13.604 Wildlife distance conditions

* * * * *

(c) Continuing to engage in fishing within 50 yards of a bear is prohibited.

* * * * *

7. Add §§ 13.918 and 13.920 in subpart L to read as follows:

§ 13.918 Sable Pass Wildlife Viewing Area

(a) Entry into the Sable Pass Wildlife Viewing Area is prohibited from May 1 to September 30 unless authorized by the Superintendent.

(b) The Sable Pass Wildlife Viewing Area means the area within one mile of the shoulder of the Park Road between Mile 38.2 and Mile 42.8, excluding the Tattler Creek drainage. A map showing the specific boundaries of the closure is available for inspection at the park visitor center.

§ 13.920 Wildlife distance conditions

(a) Bears. The following are prohibited:

(1) Approaching within 300 yards of a bear; or

(2) Engaging in photography within 300 yards of a bear.

(b) Other wildlife. The following are prohibited:

(1) Approaching within 25 yards of a moose, caribou, Dall sheep, wolf, an active raptor nest, or occupied den site; or

(2) Engaging in photography within 25 yards of a moose, caribou, Dall sheep, wolf, an active raptor nest, or occupied den site.

(c) Prohibitions. The prohibitions in this section do not apply to persons—

(1) Within a motor vehicle or a hard sided building;

(2) Within 2 yards of their motor vehicle or entrance to a hard sided building that is 25 yards or more from a bear;

(3) Engaged in legal hunting or trapping activities;

(4) In compliance with a written protocol approved by the Superintendent;

(5) Who are otherwise directed by a park employee; or

(6) In accordance with a permit from the Superintendent.

8. Add § 13.1008 in subpart M to read as follows:

§ 13.1008 Solid waste disposal.

(a) A solid waste disposal site may accept non-National Park Service solid waste generated within the boundaries of the park area.

(b) A solid waste disposal site may be located within one mile of facilities as defined by this part so long as it does not degrade natural or cultural resources of the park area.

9. Add § 13.1106 to read as follows:

§ 13.1106 Pets.

Pets are prohibited except—

(a) On the Bartlett Cove Public Use Dock;

(b) On the beach between the Bartlett Cove Public Use Dock and the National Park Service Administrative Dock;

(c) Within 100 feet of Bartlett Cove Developed Area park roads or parking areas unless otherwise posted;

(d) On a vessel on the water; or

(e) Within Glacier Bay National Preserve.

10. Add § 13.1108 to read as follows:

§ 13.1108 Alsek Corridor.

(a) A permit is required to enter the Alsek Corridor. A map showing the boundaries of the Alsek Corridor is available from the park visitor center. Failure to obtain a permit is prohibited.

(b) Group size is limited to 15 persons except that specific concession permit holders are limited to 25 persons.

(c) Camping is prohibited for more than one night each at Walker Glacier, Alsek Spit and Gateway Knob plus one additional night at any one of these three locations. Camping is prohibited for more than four nights total among the three locations.

(d) Except at Glacier Bay National Preserve, campfires must be lighted and maintained inside a fire pan within ½ mile of the Alsek River.

(e) Disposal of solid human body waste within the Alsek Corridor is prohibited. This waste must be carried to and disposed of at the NPS—designated facility.

11. Add § 13.1109 to read as follows:

§ 13.1109 Off-road vehicle use in Glacier Bay National Preserve.

The use of off-road vehicles is authorized only on designated routes and areas in Glacier Bay National Preserve. The use of off-road vehicles in all other areas in Glacier Bay National Preserve is prohibited. A map of designated routes and areas is available at park headquarters.

12. Add § 13.1118 to read as follows:

§ 13.1118 Solid waste disposal.

(a) A solid waste disposal site may accept non-National Park Service solid waste generated within the boundaries of the park area.

(b) A solid waste disposal site may be located within one mile of facilities as defined by this part so long as it does not degrade natural or cultural resources of the park area.

13. Amend § 13.1206 by redesignating paragraph (c) as paragraph (d) and adding a new paragraph (c) to read as follows:

§ 13.1206 Wildlife distance conditions.

(c) Continuing to engage in fishing within 50 yards of a bear is prohibited.

* * * * *

14. Add § 13.1210 to read as follows:

§ 13.1210 Firearms.

The superintendent may designate areas or routes within Katmai National Park where a firearm may be carried.

* * * * *

15. Revise subpart P to read as follows:

Subpart P—Special Regulations—Kenai Fjords National Park

General Provisions

Sec.
13.1302 Subsistence.
13.1304 Ice fall hazard zones.
13.1306 Public use cabins.
13.1308 Harding Icefield Trail.
13.1310 Pets.
13.1312 Climbing and walking on Exit Glacier.
13.1316 Commercial transport of passengers by motor vehicles.
Exit Glacier Development Area (EGDA)
13.1318 Location of the EGDA.
13.1320 Camping.
13.1322 Food storage.
13.1324 Bicycles.
13.1326 Snowmachines.
13.1328 EGDA closures and restrictions.

General Provisions

§ 13.1302 Subsistence.

Subsistence uses are prohibited in, and the provisions of Subpart F of this part shall not apply to, Kenai Fjords National Park.

§ 13.1304 Ice fall hazard zones.

Entering an ice fall hazard zone is prohibited. These zones will be designated with signs, fences, rope barriers, or similar devices.

§ 13.1306 Public use cabins.

(a) Camping within 500 feet of the North Arm or Holgate public use cabin is prohibited except by the cabin permit holder on a designated tent site, or as otherwise authorized by the Superintendent.

(b) Camping within the 5-acre NPS-leased parcel surrounding the Aialik public use cabin is prohibited except by the cabin permit holder on a designated tent site, or as otherwise authorized by the Superintendent.

(c) Lighting or maintaining a fire within 500 feet of the North Arm or Holgate public use cabins is prohibited except by the cabin permit holder in NPS established receptacles, or as otherwise authorized by the Superintendent.

§ 13.1308 Harding Icefield Trail.

The Harding Icefield Trail from the junction with the main paved trail near Exit Glacier to the emergency hut near the terminus is closed to—

(a) Camping within ⅛ mile of the trail from March 1 through November 1; and

(b) Bicycles or other wheeled devices.

§ 13.1310 Pets.

(a) Pets are prohibited—

(1) In the Exit Glacier Developed Area except in the parking lot, on the Exit Glacier road, or other areas designated by the superintendent;

(2) Along the coast within the area extending from the mean high tide line to one quarter mile inland after May 30 and before November 1.

(b) The restrictions in this section do not apply to dogs when sufficient snow exists for skiing or dog sled use and the dogs are restrained as part of a sled dog team or for the purposes of skijoring.

§ 13.1312 Climbing and walking on Exit Glacier.

Except for areas designated by the Superintendent, climbing or walking on, in, or under Exit Glacier is prohibited within ½ mile of the glacial terminus from May 1 through October 31, and during other periods as determined by the Superintendent. Restrictions and exceptions will be available for inspection at the park visitor center, on bulletin boards or signs, or by other appropriate means.

§ 13.1316 Commercial transport of passengers by motor vehicles.

Commercial transport of passengers by motor vehicles on Exit Glacier Road is allowed without a written permit. However, if required to protect public health and safety or park resources, or to provide for the equitable use of park facilities, the Superintendent may establish a permit requirement with appropriate terms and conditions for the transport of passengers. Failure to comply with permit terms and conditions is prohibited.

Exit Glacier Developed Area (EGDA)

§ 13.1318 Location of the EGDA.

(a) A map showing the boundaries of the EGDA is available at the park visitor center.

(b) For the purpose of this subpart, the EGDA means:

(1) From the park boundary to Exit Glacier Campground Entrance Road, all park areas within 350 meters (383 yards) of the centerline of the Exit Glacier Road;

(2) From Exit Glacier Campground Entrance Road to the end of the main paved trail, all park areas within 500 meters (546 yards) of any paved surface; or

(3) All park areas within 300 meters (328 yards) of the terminus of Exit Glacier.

§ 13.1320 Camping.

Within the EGDA, camping is prohibited except in designated sites within the Exit Glacier Campground, or as authorized by the Superintendent.

§ 13.1322 Food storage.

Cooking, consuming, storing or preparing food in the Exit Glacier Campground is prohibited except in designated areas.

§ 13.1324 Bicycles.

Within the EGDA, the use of a bicycle is prohibited except on the Exit Glacier Road and parking areas.

§ 13.1326 Snowmachines.

The use of snowmachines is prohibited within the EGDA, except—

(a) On Exit Glacier Road;

(b) In parking areas;

(c) On a designated route through the Exit Glacier Campground to Exit Creek;

(d) Within Exit Creek; and

(e) For NPS administrative activities.

§ 13.1328 EGDA closures and restrictions.

The Superintendent may prohibit or otherwise restrict activities in the EGDA to protect public health, safety, or park resources, or to provide for the equitable and orderly use of park facilities. Information on closures and restrictions will be available at the park visitor information center. Violating closures or restrictions is prohibited.

Subpart S—[Amended]

16. Add § 13.1604 to subpart S to read as follows:

§ 13.1604 Solid waste disposal.

(a) A solid waste disposal site may accept non-National Park Service solid waste generated within the boundaries of the park area.

(b) A solid waste disposal site may be located within one mile of facilities as defined by this part so long as it does not degrade natural or cultural resources of the park area.

(c) A transfer station located wholly on nonfederal lands within Lake Clark National Park and Preserve may be operated without the permit required by §§ 6.4(b) and 6.9(a) only if:

(1) The solid waste is generated within the boundaries of the park area;

(2) The Regional Director determines that the operation will not degrade any of the natural or cultural resources of the park area; and

(3) The transfer station complies with the provisions of part 6 of this chapter.

(d) For purposes of this section, a transfer station means a public use facility for the deposit and temporary storage of solid waste, excluding a facility for the storage of a regulated hazardous waste.

Subpart V—[Amended]

17. Add § 13.1912 to subpart V to read as follows:

§ 13.1912 Solid waste disposal.

(a) A solid waste disposal site may accept non-National Park Service solid waste generated within the boundaries of the park area.

(b) A solid waste disposal site may be located within one mile of facilities as defined by this part so long as it does not degrade natural or cultural resources of the park area.

(c) A transfer station located wholly on nonfederal lands within Wrangell-St. Elias National Park and Preserve may be operated without the permit required by §§ 6.4(b) and 6.9(a) only if:

(1) The solid waste is generated within the boundaries of the park area;

(2) The Regional Director determines that the operation will not degrade any of the natural or cultural resources of the park area; and

(3) The transfer station complies with the provisions of part 6 of this chapter.

(d) For purposes of this section, a transfer station means a public use facility for the deposit and temporary storage of solid waste, excluding a facility for the storage of a regulated hazardous waste.

Dated: December 17, 2007.
Lyle Laverty,
Assistant Secretary, Fish and Wildlife and Parks.

[FR Doc. E8-748 Filed 1-16-08; 8:45 am]

BILLING CODE 4310-EF-P